DEPARTMENT OF ENERGY

Federal Energy Regulatory Commission

[Docket No. EC04-38-001, et al.]

Duke Energy Marketing America, LLC, et al.; Electric Rate and Corporate Filings

April 1, 2004.

The following filings have been made with the Commission. The filings are listed in ascending order within each docket classification.

1. Duke Energy Marketing America, LLC and Engage Energy, LLC

[Docket No. EC04-38-001]

Take notice that on March 29, 2004, Duke Energy Marketing America, LLC (DEMA) and Engage Energy, LLC (Engage) filed with the Commission a request for additional flexibility pursuant to section 203 of the Federal Power Act in implementing DEMA's acquisition of Engage.

Comment Date: April 19, 2004.

2. Great Bay Hydro Corporation

[Docket No. EG04-46-000]

On March 30, 2004, Great Bay Hydro Corporation (Great Bay), a corporation organized under the laws of the State of New Hampshire, filed with the Federal Energy Regulatory Commission (the Commission) an application for determination of exempt wholesale generator status pursuant to part 365 of the Commission's regulations and section 32 of the Public Utility Holding Company Act of 1935 (PUHCA).

Great Bay states that copies of the application were served upon the Securities and Exchange Commission, the New Hampshire Public Utilities Commission, the Vermont Public Service Board and the Vermont Department of Public Service.

Comment Date: April 20, 2004.

3. Northeast Utilities Service Company, the Connecticut Light and Power Company, Public Service Company of New Hampshire, and Western Massachusetts Electric Company

[Docket No. EL04-92-000]

Take notice that on March 26, 2004, Northeast Utilities Service Company, on behalf of The Connecticut Light and Power Company, Public Service of New Hampshire, and Western Massachusetts Electric Company (collectively, Applicants), tendered for filing a request for the Commission to issue an order approving the Applicants' proposed reclassification of transmission and distribution facilities.

Comment Date: April 23, 2004.

4. R.W. Beck Plant Management, Ltd.

[Docket No. EL04-93-000]

Take notice that on March 29, 2004, R.W. Beck Plant Management Ltd. (Beck) filed with the Commission an application requesting that the Commission issue an order (1) Disclaiming Federal Power Act (FPA) jurisdiction over Beck, (which acts as manager of a company that owns a currently idle 526 MW electric generating facility in Attala County, Mississippi) or, in the alternative, granting certain waivers of the Commission's regulations, and (2) confirming that Beck requires no additional FPA section 203 approval before operations at the facility recommence.

Comment Date: April 14, 2004.

5. Redbud Energy, LP

[Docket No. ER01-1011-002]

Take notice that on March 29, 2004, Redbud Energy LP (Redbud), submitted for filing its triennial updated market analysis and certain revisions to its FERC Electric Tariff, Original Volume No. 1 to include incorporation of the Market Behavior Rules set forth in Investigation of Terms and Conditions of Public Utility Market-Based Rate Authorizations, 105 FERC ¶ 61,218 (2003).

Comment Date: April 19, 2004.

6. XL Weather & Energy Inc. and XL Trading Partners America LLC

[Docket Nos. ER03-330-002 and ER04-350-001]

Take notice that on March 26, 2004, XL Weather & Energy Inc. (XL Weather) and XL Trading Partners America LLC (XL Trading America) submitted notification of a non-material change in the characteristics that the Commission relied upon in granting XL Weather's and XL Trading America's market-based rate authorizations.

Comment Date: April 16, 2004.

7. New England Power Pool

[Docket No. ER04-335-002]

Take notice that on March 29, 2004, the New England Power Pool (NEPOOL) Participants Committee filed changes to section 10 of NEPOOL Market Rule 1 in compliance with the Commission's order issued February 27, 2004, in Docket No. ER04-335-000, New England Power Pool, 106 FERC ¶ 61,190 (2004).

The NEPOOL states that copies of these materials were sent to the NEPOOL Participants and the New England State governors and regulatory commissions.

Comment Date: April 19, 2004.

8. Vermont Electric Cooperative, Inc.

[Docket No. ER04-341-001]

Take notice that on March 29, 2004, Vermont Electric Cooperative, Inc. (VEC) tendered for filing certain proposed revisions to its Open Access Transmission Tariff and proposed First Revised Rate Schedules FERC Nos. 3-9, as well as certain cost information. VEC states that the filing is intended to comply with the requirements of the Commission's order issued in Docket No. ER04-341-000 on February 12, 2004. Consistent with this order, VEC requests an effective date for its proposed revisions as of the date of the closing under a Purchase and Sale Agreement by which VEC has agreed to purchase from Citizens Communications Company (Citizens) certain electric transmission and distribution facilities in Vermont.

VEC states that each of the customers under the OATT and rate schedules, Citizens, the Vermont Public Service Board, and the Vermont Department of Public Service were mailed copies of the filing.

Comment Date: April 19, 2004.

9. New York Independent System Operator, Inc.

[Docket Nos. ER03-552-008 and ER03-984-006]

Take notice that on March 29, 2004, the New York Independent System Operator, Inc. (NYISO) submitted a report regarding potential settlement and customer credit enhancements in compliance with the Commission's order issued September 22, 2003, in Docket No. ER03-352-000, et al.

Comment Date: April 19, 2004.

10. Tucson Electric Power Company

[Docket No. ER04-648-001]

Take notice that on March 29, 2004, Tucson Electric Power Company (Tucson) submitted a Certificate of Concurrence to the March 15, 2004, filing in Docket No. ER04-648-000 by Public Service Company of New Mexico of the 2004 Interim Invoicing Agreement for the San Juan Generating Station, dated as of January 31, 2004.

Tucson states that a copy of this filing has been mailed to all interested parties.

Comment Date: April 19, 2004.

11. New England Power Pool

[Docket No. ER04-677-000]

Take notice that on March 29, 2004, the New England Power Pool (NEPOOL) Participants Committee filed materials to implement arrangements to compensate Exelon New England Holdings, LLC for costs incurred in connection with the operation of its Mystic 8 and 9 Units on January 14-16, 2004, at the direction of ISO New England Inc. NEPOOL requests an effective date of one business day following a Commission order accepting the filing, but in no event later than May 28, 2004.

The NEPOOL Participants Committee states that copies of these materials were sent to the NEPOOL Participants and the New England State governors and regulatory commissions.

Comment Date: April 19, 2004.

12. PPL Electric Utilities Corporation

[Docket No. ER04-679-000]

Take notice that on March 29, 2004, PPL Electric Utilities Corporation (PPL Electric) filed an Interchange Scheduling Agreement between PPL Electric and Mt. Carmel Cogen, Inc.

PPL Electric states that a copy of this filing has been provided to Mt Carmel Cogen, Inc.

Comment Date: April 19, 2004.

13. West Penn Power Company

[Docket No. ER04-681-000]

Take notice that on March 29, 2004, Allegheny Energy Service Corporation on behalf of West Penn Power Company (West Penn) tendered for filing pursuant to the Commission's regulations, 18 CFR 35.15, a Notice of Cancellation of West Penn Power Company, Rate Schedule FERC No. 102, consisting of a Transition Service Agreement with Letterkenny Industrial Development Authority. West Penn requests an effective date of May 2, 2004, for the cancellation.

Comment Date: April 19, 2004.

14. Central Maine Power Company

[Docket No. ER04-682-000]

Take notice that on March 29, 2004, Central Maine Power Company (CMP) tendered for filing an Executed Service Agreement for Non-Firm Local Point-to-Point Transmission Service between CMP and Androscoggin Reservoir Company designated as CMP-FERC Electric Tariff, Fifth Revised Volume No. 3, First Revised Service Agreement Number 194.

Comment Date: April 19, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS'' link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-788 Filed 4-8-04; 8:45 am]

BILLING CODE 6717-01-P